ENVIRONMENTAL PROTECTION AGENCY

[FRL-7783-3]

Truck Stop Electrification Codes and Electrical Standards; Notice of Data Availability

AGENCY: Environmental Protection Agency.

ACTION: Notice of data availability; request for public comment.

SUMMARY: Long-haul truck drivers often idle their engines to provide heat, air conditioning, or electrical power while they rest in the sleeper compartment. They may also idle their engines to keep engine oil and fuel warm in cold weather to avoid engine-starting problems. This long-duration idling contributes to air pollution and fuel waste. The President, in his May 2001 National Energy Policy, directed the Environmental Protection Agency (EPA) and the Department of Transportation (DOT) to develop a program to reduce long-duration truck engine idling.

EPA recognizes that various technologies, strategies, and behaviors can effectively reduce long-duration idling while providing the truck driver with essential needs such as heat or air conditioning. One such technology is known as “truck stop electrification” (TSE). TSE allows the electrical grid to supply power to truck on-board components or stationary components for heating, cooling and other needs.

As an emerging technology, TSE requires installing stationary infrastructure to allow the electrical grid to provide power to the truck. In some TSE configurations, the truck is equipped with on-board components; in other cases, the truck needs no on-board modifications. As TSE has gained popularity, the need for greater government-industry cooperation has become apparent. Several truck and engine manufacturers have TSE truck designs, and two TSE technology manufacturers have deployed stationary technology at several locations. Standardizing TSE technology is a concern for the long-haul trucking industry. Further, truck manufacturers, truck stop operators, and States and Federal agencies need to know that if they assist in TSE deployment to reduce emissions and conserve fuel, the interface between the truck and stationary infrastructure will need to be compatible across the country.

Many different and divergent codes and standards potentially could be applied to TSE, including those set forth by the following organizations:

—National Electrical Code (NEC) providing standards for electric vehicle, recreational vehicle (RV) and marine power pedestals along with on-board wiring standards for RV's.

—Society of Automotive Engineers (SAE) providing standards for high voltage primary system wiring design and components.

—Underwriters Laboratories (UL) providing standards for 120 VAC distribution wiring, plugs, receptacles, protective devices and on-board appliances.

—National Electrical Manufacturer's Association (NEMA) providing standards for plug and receptacle outlet configurations.

—Canadian Standards Association (CSA) and Canadian Electrical Code (CEC) providing standards similar to that of UL and NEC but for application in Canada.

Some of these standards-setting organizations have established preferred voltage/current ratings, plug types, and truck cab external connection locations. For example, SAE standard J1673 defines design and use requirements for primary high voltage wiring systems aboard on-road vehicles, but lacks explicit guidelines for distribution of 120-Volt alternating current (AC) originating from grid-based electrical outlets for use on secondary power systems, as in the case of TSE. Additionally, the RV wiring standards listed in NEC and CSA allow for wiring practice that may not be suitable for the high vibration environment of a truck or the facility designs found at truck stops. For example, the use of insulation displacement connections with solid wire is an excepted practice with RV's that when exposed to high vibration will cut into the wire with the potential of being hazardous. Truck manufacturers have already dealt with local code enforcement organizations that claim oversight of the manufacturing installation of standard AC systems within their jurisdictions. But to date there is no consensus on a uniform approach to addressing the on-board TSE equipment as well as the stationary equipment requirements.

On October 27, 2003, EPA and DOT held the first national workshop on developing consistent TSE codes and electrical standards. The goal of the workshop was to examine the issues surrounding TSE standards and to try to generate an initial consensus on a consistent, national standard for TSE as it applies to long-haul trucks. This was accomplished by examining a variety of existing codes and standards, holding a facilitated discussion of the concerns and issues as seen from the various perspectives of the long-haul trucking industry, and developing an initial national recommendation or action plan dealing with TSE standards.

The purpose of this Notice of Data Availability is to seek your input on the workshop recommendations. TSE standardization requires input from various industry and standards-setting organizations. The comments and suggestions received from this notice will be used to better develop a national consensus. Once consensus is reached on many of the above issues and choices, a standards-setting organization will need to formally undertake the effort of establishing a national standard.

DATES: Submit comments on or before August 9, 2004.

ADDRESSES: Comments may be submitted electronically or by mail to the contact below or through EPA Dockets at http://www.epa.gov/edocket by searching on the appropriate docket identification number. EPA will make available for public inspection at the Air and Radiation Docket written comments received from interested parties. The official public docket is the collection of materials that is available for public viewing at the Air and Radiation Docket in the EPA Docket Center, (EPA/DC) EPA West, Room B102, 1301 Constitution Ave., NW, Washington, DC. The EPA Docket Center Public Reading Room is open from 8:30 a.m. to 4:30 p.m., Monday through Friday, excluding legal holidays. The telephone number for the Public Reading Room is (202) 566-1744, and the telephone number for the Air and Radiation Docket is (202) 566-1743. The reference number for this docket is OAR-2003-0226.

FOR FURTHER INFORMATION CONTACT: Elizabeth Lonoff, Transportation and Regional Programs Division (6406J), U.S. Environmental Protection Agency, 1200 Pennsylvania Ave., NW, Washington, DC 20460. Telephone: (202) 343-9147, e-mail address: Lonoff.Elizabeth@EPA.GOV.

SUPPLEMENTARY INFORMATION:

I. Current Codes and Standards

Based on the workshop, the following currently applicable standards were identified as relevant to TSE:

Managing organization | Document identifier | Title
Society of Automotive Engineers | SAE J1654 | High Voltage Primary Cable.
Society of Automotive Engineers | SAE J1673 | High Voltage Automotive Wiring Assembly Design.
Society of Automotive Engineers | SAE J1742 | Connections for High Voltage On-board Road Vehicle Electrical Wiring Harnesses.
National Electrical Manufacturers Association | Standards Publication No. WD 6 | Wiring Devices—Dimensional Specifications.
National Fire Protection Association | NFPA 70 | 2002 National Electric Code.
National Fire Protection Association | NFPA 1194 | Standard for Recreational Vehicle Parks.
National Fire Protection Association | NFPA 70 Article 220 | Branched Circuit and Feeder Calculations.
Underwriters Laboratories | Standard No. 62 | Flexible Cord and Fixture Wire.
Underwriters Laboratories | Standard No. 817 | Cord Sets and Power Supply Cords.
Underwriters Laboratories | Standard No. 943 | Ground Fault Circuit Interrupters.
Canadian Standards Association | CEC, Part 1 | 2002 Canadian Electric Code.
Canadian Standards Association | C22.2 No. 21-95 (R1999) | Cord Sets and Power Supply Cords.
Canadian Standards Association | C22.2 No. 49-98 | Flexible Cords and Cables.
Canadian Standards Association | Z240.6.2/C22.2 No. 149-99 | Electrical Requirements for Recreational Vehicles.

II. Potential TSE Code and Electrical Standards

Based on discussions with and comments from key participants in the trucking and standard-setting industries, the following areas have been identified as needing attention. We seek your comments and suggestions on the following issues. As you write your comments, please indicate the section you are commenting on (e.g., On-Board System Power Needs). Please ensure your comments are relevant to the issues presented

i. On-Board System Power Needs

To best determine uniform off-board power requirements, we need to better understand the on-board power needs. Truck drivers will operate various on-board components, such as an electric heating/air conditioning system, engine block heater, TV/VCR, refrigerator, and lights to name just a few. While not all of these on-board components operate simultaneously, and the power needs will fluctuate throughout the year, we need to determine a range of kilowatt (kW) power. What is the kW power needs? Is it <3 kW, 3-6kW, or >6 kW? Describe the types of devices and their kW needs when operated? Should we use peak power needs? Should we follow existing codes for feeder and demand calculations or does this technology warrant specific codes to follow? What are the future trends? Will power needs increase or decrease?

ii. Off-Board Power Needs

Based on certain assumptions of on-board power needs described above, what voltage and amperage configuration will supply the on-board needs? Should it be 120V, 240V single phase, 208V three phase, 208V single phase or some other voltage? Please be specific so as not to confuse 240V with 208V or other voltages that often get defined as equivalent. What amperage configuration will best provide the power required? Is it 20, 30, 50, or some other amperage? What are the power needs for transportation refrigerator units? Most engine block heaters are designed to operate at 120V. Will a voltage above 120V present problems for the existing heaters on the market? Or does this emphasize the need for truck OEM's to install integrated block heaters into the TSE designs?

iii. Connection Compatibility and Safety

What plug configuration should be used? Should the block heater connection be considered as part of the truck-mounted TSE system? Should power management be required, and if so where should it be installed, on the truck or within the connection facility? Should multiple configurations be available on a percentage of use basis, as is done at RV campsites? How should the user be required to interface with the TSE system for questions and payment?

What type of safety considerations should be included in developing the TSE system? Which grounding standard should be adopted for truck on-board and facility systems? Should power be distributed in any certain manner? Should power be available at any distance away from vehicle? Should electrical safety measures (GFCI, fuses, breakers, etc.) be present on the truck, at the connection facility, in the connection wiring, or a combination of these? What sort of safeguards should be in place to verify that the driver only energizes his/her parking space? What safety measures (like auto-eject connectors or break-away connections, engine/transmission/emergency brake system interlocks, visual indicators, or other equipment) should be integrated into the TSE system to prevent structural damage, should users pull away while still connected? Should tamper loop monitoring be required? Are standards required to ensure safe power supply switching between on-board and off-board power sources? Should open service neutral protection be standardized on truck-mounted systems?

iv. System Design

What steps should be taken to ensure that modularity of both the truck-mounted and the facility-based TSE is ensured? How should wiring systems of the truck-mounted systems delineate AC and DC wiring or high and low voltage wiring (color-coding)? What location on the truck (incorporating safety, visibility, and user preferences) should be designated as the standard location for the installation of the truck-mounted TSE connection (e.g., driver side, passenger side or front of vehicle, fender or cab area)? How should cab design issues be approached when determining the impact on cab power requirements? Should a standardized cab living space be identified to determine the vehicle electrical load requirements (heating, ventilation, and air conditioning [HVAC] system capacity and cab insulation levels)? What weight allowances should be permitted for truck-mounted TSE equipment?

Dated: June 29, 2004.
Suzanne Rudzinski,
Director, Transportation and Regional Programs Division.

[FR Doc. 04-15534 Filed 7-7-04; 8:45 am]

BILLING CODE 6560-50-P